DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Actions

On January 10, 2022, OFAC determined that the property and interests in property subject to U.S. jurisdiction of the following persons are blocked under the relevant sanctions authority listed below.

Individuals

1. DELGADO CASTELLON, Celina, Residencial Mira Bosques Casa C15, Managua, Nicaragua; DOB 08 May 1976; POB Esteli, Nicaragua; nationality Nicaragua; Gender Female; National ID No. 1610805760006T (Nicaragua) (individual) [NICARAGUA].

Designated pursuant to section 1(a)(iii) of Executive Order 13851 of November 27, 2018, “Blocking Property of Certain Persons Contributing to the Situation in Nicaragua,” 83 FR 61505, 3 CFR, 2018 Comp., p. 884 (“E.O. 13851”), for being an official of the Government of Nicaragua or having served as an official of the Government of Nicaragua at any time on or after January 10, 2007.

2. DIAZ FLORES, Nahima Janett, Residencial Lomas del Valle, Casa No. U-5, Managua, Nicaragua; DOB 28 Jun 1989; POB Managua, Nicaragua; nationality Nicaragua; Gender Female; National ID No. 0012806890047K (Nicaragua) (individual) [NICARAGUA].

Designated pursuant to section 1(a)(iii) of E.O. 13851, for being an official of the Government of Nicaragua or having served as an official of the Government of Nicaragua at any time on or after January 10, 2007.

3. BARAHONA CASTRO, Rosa Adelina (a.k.a. BARAHONA DE RIVAS, Rosa Adelina), Zona Central, Matagalpa, Nicaragua; DOB 10 May 1957; POB Murra, Nueva Segovia, Nicaragua; nationality Nicaragua; Gender Female; National ID No. 4901005570000R (Nicaragua) (individual) [NICARAGUA].

Designated pursuant to section 1(a)(iii) of E.O. 13851, for being an official of the Government of Nicaragua or having served as an official of the Government of Nicaragua at any time on or after January 10, 2007.

4. PULIDO ORTIZ, Bayardo de Jesus, Residencial Altos de Motastepe, Casa 746, Ciudad Sandino, Managua, Nicaragua; DOB 29 Oct 1960; POB Masaya, Nicaragua; nationality Nicaragua; Gender Male; National ID No. 001291060007C (Nicaragua); Diplomatic Passport E0022392 (Nicaragua) issued 12 Apr 2012 expires 12 Apr 2022 (individual) [NICARAGUA].

Designated pursuant to section 1(a)(iii) of E.O. 13851, for being an official of the Government of Nicaragua or having served as an official of the Government of Nicaragua at any time on or after January 10, 2007.

5. RODRIGUEZ RUIZ, Bayardo Ramon, KM 9 Carretera Nueva A Leon Y 300 Mts Al Este, Casa 9, Managua, Nicaragua; DOB 12 Apr 1961; POB Managua, Nicaragua; nationality Nicaragua; Gender Male; National ID No. 0011204610031W (Nicaragua); Diplomatic Passport A0008886 (Nicaragua) issued 12 Feb 2012 expires 12 Feb 2022 (individual) [NICARAGUA].

Designated pursuant to section 1(a)(iii) of E.O. 13851, for being an official of the Government of Nicaragua or having served as an official of the Government of Nicaragua at any time on or after January 10, 2007.

6. CALDERON VINDELL, Ramon Humberto, Kilometro Doce y Medio, Carretera Sur, Managua, Nicaragua; DOB 17 Oct 1959; POB San Juan de Limay, Esteli, Nicaragua; nationality Nicaragua; Gender Male; National ID No. 1641710590000J (Nicaragua) (individual) [NICARAGUA].

Designated pursuant to section 1(a)(iii) of E.O. 13851, for being an official of the Government of Nicaragua or having served as an official of the Government of Nicaragua at any time on or after January 10, 2007.

Dated: January 10, 2022.
Bradley T. Smith,
Deputy Director, Office of Foreign Assets Control, U.S. Department of the Treasury.

[FR Doc. 2022-00637 Filed 1-13-22; 8:45 am]

BILLING CODE 4810-AL-P